LEGAL SERVICES CORPORATION

Notice of Availability of Calendar Year 2008 Competitive Grant Funds

AGENCY: Legal Services Corporation.

ACTION: Solicitation for Proposals for the Provision of Civil Legal Services.

SUMMARY: The Legal Services Corporation (LSC) is the national organization charged with administering federal funds provided for civil legal services to low-income people. LSC hereby announces the availability of competitive grant funds for the provision of a full range of civil legal services to eligible clients in American Samoa. The annualized grant amount is anticipated to be approximately $310,000. The grant will be awarded in or around June 2008.

DATES: See SUPPLEMENTARY INFORMATION section for grants competition dates.

ADDRESS: Legal Services Corporation—Competitive Grants, 3333 K Street, NW., Third Floor, Washington, DC 20007-3522.

FOR FURTHER INFORMATION CONTACT: Office of Program Performance by e-mail at competition@lsc.gov, or visit the grants competition Web site at www.ain.lsc.gov.

SUPPLEMENTARY INFORMATION: The Request for Proposals (RFP) is available at http://www.ain.lsc.gov. Once at the Web site, click on “Bulletin Board” to access the RFP and other information pertaining to the LSC competitive grants process. Refer to the RFP for instructions on preparing the grant proposal; the regulations and guidelines governing LSC funding; the definition of a full range of legal services, and grant proposal submission requirements.

Applicants must file a Notice of Intent to Compete (NIC; RFP Form-H) to participate in the competitive grants process. The deadline for filing the NIC is December 31, 2007, 5 p.m., e.d.t. The deadline for filing grant proposals is March 3, 2008, 5 p.m., e.d.t. The dates shown in this notice for filing the NIC and the grant proposals supersede the dates in the RFP. All other instructions, regulations, guidelines, service area descriptions, definitions, and grant proposal submission requirements remain in effect unless otherwise noted.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

LSC will not fax the RFP to interested parties. Interested parties are asked to visit http://www.ain.lsc.gov regularly for updates on the LSC competitive grants process.

Dated: November 20, 2007.
Michael A. Genz,
Director, Office of Program Performance, Legal Services Corporation.

[FR Doc. E7-23011 Filed 11-27-07; 8:45 am]

BILLING CODE 7050-01-P